DEPARTMENT OF HEALTH AND HUMAN SERVICES

Centers for Disease Control and Prevention

Disease, Disability and Injury Prevention and Control Special Emphasis Panel: National Academic Centers of Excellence on Youth Violence, PA# 00043

In accordance with section 10(a)(2) of the Federal Advisory Committee Act (Pub. L. 92-463), the Centers for Disease Control and Prevention (CDC) announces the following meeting.

Name: Disease, Disability and Injury Prevention and Control Special Emphasis Panel: National Academic Centers of Excellence on Youth Violence, PA# 00043.

Times and Dates: 8 a.m.-8:45 a.m. July 10, 2000 (Open); 8:45 a.m.-5:30 p.m. July 10, 2000 (Closed); 8 a.m.-5:30 p.m. July 11, 2000 (Closed).

Place: Crowne Plaza Hotel, Atlanta Airport Virginia Avenue, Atlanta, Georgia 30344. Telephone 404/768-6660.

Status: Portions of the meeting will be closed to the public in accordance with provisions set forth in section 552b(c)(4) and (6), Title 5 U.S.C., and the Determination of the Associate Director for Management and Operations, CDC, pursuant to Public Law 92-463.

Matters to be Discussed: The meeting will include the review, discussion, and evaluation of applications received in response to Program Announcement 00043.

CONTACT PERSON FOR MORE INFORMATION: Enrique Nieves, Jr., M.S. Centers for Disease Control and Prevention, National Center for Injury Prevention and Control, Division of Violence Prevention, 2939 Flowers Road, Vanderbilt Building, Room 2012, m/s K60, Atlanta, GA 30341. Telephone 770/488-1281, email exn2@cdc.gov.

The Director, Management Analysis and Services Office, has been delegated the authority to sign Federal Register Notices pertaining to announcements of meetings and other committee management activities, for the both the Centers for Disease Control and Prevention and the Agency for Toxic Substances and Disease Registry.

Dated: May 30, 2000.
Carolyn J. Russell,
Director, Management Analysis and Services Office, Centers for Disease Control and Prevention (CDC).

[FR Doc. 00-13939 Filed 6-2-00; 8:45 am]

BILLING CODE 4163-18-P